FEDERAL COMMUNICATIONS COMMISSION

Sunshine Act Meeting

Open Commission Meeting Thursday, February 17, 2000

The Federal Communications Commission will hold an Open Meeting on the subjects listed below on Thursday, February 17, 2000, which is scheduled to commence at 9:30 a.m. in Room TW-C305, at 445 12th Street, SW, Washington, DC.

Item No. | Bureau | Subject
1 | Common Carrier | Title: Telecommunications Relay Services and Speech-to-Speech Services for Individuals with Hearing and Speech Disabilities (CC Docket No. 98-67).
|  | Summary: The Commission will consider revisions to its rules governing telecommunications services for individuals with hearing and speech disabilities.
2 | Common Carrier, Cable Services, Engineering and Technology, International, and wireless Telecommunications | Title: Inquiry Concerning Deployment of Advanced Telecommunications Capability to All Americans in a Reasonable and Timely Fashion, and Possible Steps to Accelerate Such Deployment Pursuant to Section 706 of the Telecommunications Act of 1996 (CC Docket No. 98-146).
|  | Summary: The Commission will consider a Notice of Inquiry pursuant to Section Offering in the Commercial Mobile Radio Services (WT Docket No. 97-207)
|  | Summary: The Commission will consider a Memorandum Opinion and Order on Reconsideration and Report and Order concerning rules for facilitating calling party pays.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202 857-3800; fax (202) 857-3805 and 857-3184; or TTY (202) 293-8810. These copies are available in paper format and alternative media, including large print/type; digital disk; and audio tape. ITS may be reached by e-mail: its—inc@ix.netcom.com. Their Internet address is htt://www.itsi.com.

This meeting can be viewed over George Mason University's Capitol Connection. The Capitol Connection also will carry the meeting live via the Internet. For information on these services call (703) 993-3100. The audio portion of the meeting will be broadcast live on the Internet via the FCC's Internet audio broadcast page at http://www.fcc.gov/realaudio. The meeting can also be heard via telephone, for a fee, from National Narrowcast Network, telephone (202) 966-2211 or fax (202) 966-1770. Audio and video tapes of this meeting can be purchased from Infocus, 341 Victory Drive, Herndon, VA 20170, telephone (703) 834-0100; fax number (707) 834-0111.

Federal Communications Common.
Magalie Roman Salas,
Secretary.

[FR Doc. 00-3698 Filed 2-11-00; 1:58 pm]

BILLING CODE 6712-01-M